DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request the Office of Management and Budget (OMB) to allow a proposed information collection project: “Primary Care Network Survey (PRINS)”. In accordance with the Paperwork Reduction Act as amended (see in particular 44 U.S.C. 3506(c)(2)(A)), AHRQ invites the public to comment on this proposed information collection request to allow AHRQ to conduct research in primary care settings.

This proposed information collection was previously published in the Federal Register on June 19, 2001 and allowed 60 days for public comment. No public comments were received. The purpose of this notice is to allow an additional 30 days for public comment.

DATES: Comments on this notice must be received by September 27, 2001.

ADDRESSES: Written comments should be submitted to: Allison Eydt, Human Resources and Housing Branch, Office of Information and Regulatory Affairs, OMB, New Executive Office Building, Room 10235, Washington, DC 20503.

Comments submitted in response to this notice will be summarized and included in the request for OMB approval of the proposed information collection. All comments will become a matter of public record.

FOR FURTHER INFORMATION CONTACT: Cynthia D. McMichael, AHRQ, Reports Clearance Officer, (301) 594-3132.

SUPPLEMENTARY INFORMATION:

Primary Care Network Survey (PRINS)

As directed in its reauthorization legislation, AHRQ supports activities designated to improve the capacity of practice-based research networks (PBRNs) to conduct research in primary care settings. A PBRN is a group of ambulatory practices devoted principally to the primary care of patients, affiliated with each other in order to investigate questions related to community-based practice. AHRQ has recently established cooperative agreements with 19 PBRNs who have specifically been asked to conduct network-defining surveys using a modified version of the 1999-2000 version of the National Ambulatory Medical Care Survey (NAMCS) instrument. We will be dropping a couple of items included in the NAMCS instrument.

Method of Collection

PRINS will provide a range of baseline data on the clinicians enrolled in each network, the services provided, and characteristics of patients receiving those services. Data to be collected include the patients' demographic characteristics and reason(s) for visit, and the providers' diagnosis(es) and diagnostic services, medications and disposition.

These data may be used by the PBRN to define the network's capacity to study specific clinical conditions seen in primary care, establish a denominator for epidemoiological or surveillance studies, and stimulate further research on the use, organization and delivery of primary care. All identifiable data that is collected will be protected in accordance with the AHRQ confidentiality statute, 42 USC 299c-3(c).

The estimated annual hour burden is as follows:

| Number of respondents (clinicians) | Number of forms/ respondent | Avg. burden/form (in hrs) | Response burden (hrs) =
| (1) | (2) | (3) | (1)*(2)*(3)* (for rows 1 and 2)
Intake Form | 1,000 | 1 | .25 | 250
Patient Form | 1,000 | 30 | .03 | 900
Total | 1,000 | 31 | .037 | 1.150

To calculate the burden hours, the number of respondents for PRINS is based on a sample of 1,000 clinicians who have agreed to advance to participate. Each clinician fills out an intake form (which requires about 15 minutes).

The same 1,000 then record (on separate forms) information about 30 consecutive patients seen in his/her practice (requiring less than 2 minutes per form to complete). The total cost to the volunteer respondents is estimated to be $150,000 or $150 each.

Request for Comments

Comments are invited on: (a) The necessity of the proposed collections; (b) the accuracy of the Agency's estimate of burden (including hours and cost) of the proposed collection of information; (c) ways to enhance the quality, utility and clarity of the information to be collected; and (d) ways to minimize the burden of the collection of information upon the respondents, including the use of automated collection techniques or other forms of information technology.

Comments submitted in response to this notice will be summarized and included in the request for OMB approval of the proposed information collection. All comments will become a matter of public record.

Copies of these proposed collection plans and instruments can be obtained from the AHRQ Reports Clearance Officer (see above).

Dated: August 21, 2001.
John M. Eisenberg,
Director.

[FR Doc. 01-21687 Filed 8-27-01; 8:45 am]

BILLING CODE 4160-90-M